DEPARTMENT OF ENERGY

Federal Energy Regulatory Commission

Combined Notice of Filings #1

Take notice that the Commission received the following electric corporate filings:

Docket Numbers: EC25-66-000.

Applicants: West Deptford Energy, LLC.

Description: Application for Authorization Under Section 203 of the Federal Power Act of West Deptford Energy, LLC.

Filed Date: 3/20/25.

Accession Number: 20250320-5251.

Comment Date: 5 p.m. ET 4/10/25.

Docket Numbers: EC25-67-000.

Applicants: Horseshoe Bend Wind, LLC, North Hurlburt Wind, LLC, South Hurlburt Wind, LLC, SF Aggregator, LLC, British Columbia Investment Management Corporation.

Description: Joint Application for Authorization Under Section 203 of the Federal Power Act of Horseshoe Bend Wind, LLC.

Filed Date: 3/21/25.

Accession Number: 20250321-5257.

Comment Date: 5 p.m. ET 4/11/25.

Take notice that the Commission received the following exempt wholesale generator filings:

Docket Numbers: EG25-241-000.

Applicants: Windy Lane Energy Center, LLC.

Description: Windy Lane Energy Center, LLC submits Notice of Self-Certification of Exempt Wholesale Generator Status.

Filed Date: 3/20/25.

Accession Number: 20250320-5170.

Comment Date: 5 p.m. ET 4/10/25.

Docket Numbers: EG25-247-000.

Applicants: Braintree MA BESS 1 LLC.

Description: Braintree MA BESS 1 LLC submits Notice of Self-Certification of Exempt Wholesale Generator Status.

Filed Date: 3/24/25.

Accession Number: 20250324-5158.

Comment Date: 5 p.m. ET 4/14/25.

Docket Numbers: EG25-248-000.

Applicants: Tower Solar, LLC.

Description: Tower Solar, LLC submits Notice of Self-Certification of Exempt Wholesale Generator Status.

Filed Date: 3/24/25.

Accession Number: 20250324-5230.

Comment Date: 5 p.m. ET 4/14/25

Take notice that the Commission received the following electric rate filings:

Docket Numbers: ER24-1847-001.

Applicants: Sierra Pacific Power Company, Nevada Power Company.

Description: Compliance filing: Nevada Power Company submits tariff filing per 35: Second Order 2023 Compliance Filing ER24-1847 to be effective 7/1/2024.

Filed Date: 3/24/25.

Accession Number: 20250324-5118.

Comment Date: 5 p.m. ET 4/14/25.

Docket Numbers: ER25-1255-000.

Applicants: Palo Duro Wind, LLC.

Description: Errata to 02/07/2025, Palo Duro Wind, LLC tariff filing.

Filed Date: 3/19/25.

Accession Number: 20250319-5216.

Comment Date: 5 p.m. ET 4/9/25.

Docket Numbers: ER25-1319-001.

Applicants: Cadence Solar Energy LLC.

Description: Supplement and Errata to 02/14/2025 Cadence Solar Energy LLC tariff filing.

Filed Date: 3/7/25.

Accession Number: 20250307-5254.

Comment Date: 5 p.m. ET 3/28/25.

Docket Numbers: ER25-1321-000.

Applicants: Trade Post Solar LLC.

Description: Supplement to 02/14/2025, Trade Post Solar LLC tariff filing.

Filed Date: 3/7/25.

Accession Number: 20250307-5253.

Comment Date: 5 p.m. ET 3/28/25.

Docket Numbers: ER25-1735-000.

Applicants: Puget Sound Energy, Inc.

Description: § 205(d) Rate Filing: Air Liquide NITSA (SA-5106) OA (SA-5107) IA (SA-5108) to be effective 3/1/2025.

Filed Date: 3/21/25.

Accession Number: 20250321-5242.

Comment Date: 5 p.m. ET 4/11/25.

Docket Numbers: ER25-1736-000.

Applicants: PJM Interconnection, L.L.C.

Description: § 205(d) Rate Filing: Designated Entity Agreement, SA No. 7601 between PJM and NEET MidAtlantic to be effective 2/21/2025.

Filed Date: 3/21/25.

Accession Number: 20250321-5244.

Comment Date: 5 p.m. ET 4/11/25.

Docket Numbers: ER25-1737-000.

Applicants: Orange and Rockland Utilities, Inc.

Description: § 205(d) Rate Filing: O&R Undergrounding 2025 w docx file to be effective 4/1/2025.

Filed Date: 3/24/25.

Accession Number: 20250324-5002.

Comment Date: 5 p.m. ET 4/14/25.

Docket Numbers: ER25-1738-000.

Applicants: PJM Interconnection, L.L.C.

Description: § 205(d) Rate Filing: Amendment to ISA, SA No. 6653; Queue No. AD2-031/AF1-159 to be effective 5/24/2025.

Filed Date: 3/24/25.

Accession Number: 20250324-5114.

Comment Date: 5 p.m. ET 4/14/25.

Docket Numbers: ER25-1739-000.

Applicants: PJM Interconnection, L.L.C.

Description: § 205(d) Rate Filing: Amendment to ISA, SA No. 3753; Queue No. AF1-051 (amend) to be effective 5/24/2025.

Filed Date: 3/24/25.

Accession Number: 20250324-5119.

Comment Date: 5 p.m. ET 4/14/25.

Docket Numbers: ER25-1740-000.

Applicants: Wisconsin Public Service Corporation.

Description: § 205(d) Rate Filing: PBOP Changes in its W-1A Tariff and Rate Schedule No. 87 to be effective 4/1/2025.

Filed Date: 3/24/25.

Accession Number: 20250324-5124.

Comment Date: 5 p.m. ET 4/14/25.

Docket Numbers: ER25-1741-000.

Applicants: PJM Interconnection, L.L.C.

Description: § 205(d) Rate Filing: Amendment to ISA, SA No. 6232; Queue No. AE1-071 to be effective 5/24/2025.

Filed Date: 3/24/25.

Accession Number: 20250324-5210.

Comment Date: 5 p.m. ET 4/14/25.

Docket Numbers: ER25-1742-000.

Applicants: PJM Interconnection, L.L.C.

Description: § 205(d) Rate Filing: Original GIA, Service Agreement No. 7604; AF2-020 to be effective 2/20/2025.

Filed Date: 3/24/25.

Accession Number: 20250324-5256.

Comment Date: 5 p.m. ET 4/14/25.

Docket Numbers: TX25-4-000.

Applicants: Compass Energy Storage LLC.

Description: Application for Order Directing Transmission Service and Interconnection of Facilities of Compass Energy Storage LLC.

Filed Date: 3/20/25.

Accession Number: 20250320-5250.

Comment Date: 5 p.m. ET 4/10/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 24, 2025.
Carlos D. Clay,
Deputy Secretary.

[FR Doc. 2025-05359 Filed 3-27-25; 8:45 am]

BILLING CODE 6717-01-P